DEPARTMENT OF TRANSPORTATION

Federal Motor Carrier Safety Administration

[Docket ID FMCSA-2008-0106]

Qualification of Drivers; Exemption Applications; Vision

AGENCY: Federal Motor Carrier Safety Administration (FMCSA), DOT.

ACTION: Notice of applications for exemptions; request for comments.

SUMMARY: FMCSA announces receipt of applications from 68 individuals for exemptions from the vision requirement in the Federal Motor Carrier Safety Regulations. If granted, the exemptions would enable these individuals to qualify as drivers of commercial motor vehicles (CMVs) in interstate commerce without meeting the Federal vision standard.

DATES: Comments must be received on or before July 21, 2008.

ADDRESSES: You may submit comments bearing the Federal Docket Management System (FDMS) Docket ID FMCSA-2008-0106 using any of the following methods:

• Federal eRulemaking Portal: Go to http://www.regulations.gov. Follow the on-line instructions for submitting comments.

• Mail: Docket Management Facility; U.S. Department of Transportation, 1200 New Jersey Avenue, SE., West Building Ground Floor, Room W12-140, Washington, DC 20590-0001.

• Hand Delivery: West Building Ground Floor, Room W12-140, 1200 New Jersey Avenue, SE., Washington, DC, between 9 a.m. and 5 p.m., Monday through Friday, except Federal holidays.

• Fax: 1-202-493-2251.

Each submission must include the Agency name and the docket ID for this Notice. Note that DOT posts all comments received without change to http://www.regulations.gov, including any personal information included in a comment. Please see the Privacy Act heading below.

Docket: For access to the docket to read background documents or comments, go to http://www.regulations.gov at any time or Room W12-140 on the ground level of the West Building, 1200 New Jersey Avenue, SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19476). This information is also available at http://Docketsinfo.dot.gov.

FOR FURTHER INFORMATION CONTACT: Dr. Mary D. Gunnels, Director, Medical Programs, (202) 366-4001, fmcsamedical@dot.gov, FMCSA, Department of Transportation, 1200 New Jersey Avenue, SE., Room W64-224, Washington, DC 20590-0001. Office hours are from 8:30 a.m. to 5 p.m., Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 68 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

Ronald G. Adams

Mr. Adams, age 58, has had amblyopia in his right eye since childhood. The best corrected visual acuity in his right eye is 20/60 and in the left, 20/20. Following an examination in 2008, his optometrist noted, “In my professional opinion, Mr. Adams has sufficient vision to perform the driving tasks required to operate a commercial vehicle.” Mr. Adams reported that he has driven straight trucks for 17 years, accumulating 204,000 miles, and tractor-trailer combinations for 4 years, accumulating 120,000 miles. He holds a Class A Commercial Driver's License (CDL) from West Virginia. His driving record for the last 3 years shows no crashes and no convictions for moving violations in a CMV.

Catarino Aispuro

Mr. Aispuro, 39, has a prosthetic left eye due to a traumatic injury sustained 18 years ago. The visual acuity in his right eye is 20/20. Following an examination in 2008, his optometrist noted, “Catarino's vision is sufficient to perform the driving tasks necessary to operate a commercial vehicle.” Mr. Aispuro reported that he has driven straight trucks for 11 years, accumulating 440,000 miles. He holds a Class B CDL from Oregon. His driving record for the last 3 years shows no crashes and no convictions for moving violations in a CMV.

Edwin A. Betz

Mr. Betz, 58, has complete loss of vision in his left eye due to a traumatic injury sustained in 1988. The visual acuity in his right eye is 20/20. Following an examination in 2008, his optometrist noted, “I certify in my medical opinion that Mr. Betz has sufficient vision to perform the driving tasks required to operate a commercial vehicle.” Mr. Betz reported that he has driven straight trucks for 35 years, accumulating 140,000 miles, and tractor-trailer combinations 15 years, accumulating 90,000 miles. He holds a Class A CDL from Indiana. His driving record for the last 3 years shows no crashes and no convictions for moving violations in a CMV.

James F. Brumberg

Mr. Brumberg, 57, has had amblyopia in his left eye since childhood. The best corrected visual acuity in his right eye is 20/20 and in the left, 20/200. Following an examination in 2008, his optometrist noted, “In my medical opinion, the above patient has sufficient vision to perform the driving tasks required to operate a commercial vehicle”. Mr. Brumberg reported that he has driven straight trucks for 7 years, accumulating 302,400 miles, tractor-trailer combinations for 25 years, accumulating 3.4 million miles, and buses for 3 years, accumulating 129,000 miles. He holds a Class A CDL from Pennsylvania. His driving record for the last 3 years shows no crashes and one conviction for a moving violation, speeding in a CMV. He exceeded the speed limit by 13 mph.

Donald L. Carman

Mr. Carman, 59, has had amblyopia in his right eye since birth. The best corrected visual acuity in his right eye is 20/200 and in the left, 20/15. Following an examination in 2008, his optometrist noted, “It is my opinion, based on my recent examination of Mr. Carman, that if he has demonstrated a history of satisfactory commercial vehicle operation, he should be able to continue doing so with corrective lenses.” Mr. Carman reported that he has driven straight trucks for 3 years, accumulating 15,000 miles, and tractor-trailer combinations for 33 years, accumulating 3.3 million miles. He holds a Class A CDL from Ohio. His driving record for the last 3 years shows no crashes and no convictions for moving violations in a CMV.

John W. Carter, Jr.

Mr. Carter, 60, has had amblyopia in his right eye since childhood. The best corrected visual acuity in his right eye is 20/70 and in the left, 20/20. Following an examination in 2008, his optometrist noted, “He has sufficient vision to operate commercial vehicles.” Mr. Carter reported that he has driven straight trucks for 3 years, accumulating 45,000 miles, and tractor-trailer combinations for 3 years, accumulating 240,000 miles. He holds a Class C operator's license from North Carolina. His driving record for the last 3 years shows no crashes and no convictions for moving violations in a CMV.

Christopher R. Cone

Mr. Cone, 41, has had posterior staphyloma in his left eye since birth. The best corrected visual acuity in his right eye is 20/20 and in the left, 20/400. Following an examination in 2007, his optometrist noted, “There is no reason that Mr. Cone would not be able to visually see what he needs to see and operate a commercial vehicle.” Mr. Cone reported that he has driven straight trucks for 8 years, accumulating 640,000 miles, and tractor-trailer combinations for 2 years, accumulating 120,000 miles. He holds a Class A CDL from Georgia. His driving record for the last 3 years shows no crashes and no convictions for moving violations in a CMV.

Walter O. Connelly

Mr. Connelly, 39, has had lateral nystagmus since childhood. The best corrected visual acuity in his right eye is 20/50 and in the left, 20/25. Following an examination in 2007, his optometrist noted, “Mr. Connelly has sufficient vision to be able to operate a commercial vehicle.” Mr. Connelly reported that he has driven straight trucks for 6 months, accumulating 3,600 miles, and tractor-trailer combinations for 13 years, accumulating 110,500 miles. He holds a Class A CDL from Washington. His driving record for the last 3 years shows no crashes and no convictions for moving violations in a CMV.

Stephen B. Copeland

Mr. Copeland, 43, has had amblyopia in his left eye since childhood. The visual acuity in his right eye is 20/20 and in the left, 20/200. Following an examination in 2007, his optometrist noted, “In my professional opinion, I believe that Mr. Copeland does have the visual ability to adequately and safely operate a tractor trailer truck.” Mr. Copeland reported that he has driven straight trucks for 21 years, accumulating 210,000 miles. He holds a Class A CDL from Georgia. His driving record for the last 3 years shows no crashes and no convictions for moving violations in a CMV.

Gerald L. Culverwell

Mr. Culverwell, 64, has had amblyopia in his left eye since childhood. The best corrected visual acuity in his right eye is 20/20 and in the left, light perception. Following an examination in 2008, his optometrist noted, “He has sufficient vision to operate a commercial vehicle, including buses.” Mr. Culverwell reported that he has driven straight trucks for 26 years, accumulating 520,000 miles, tractor-trailer combinations for 48 years, accumulating 1.9 million miles, and buses for 12 years, accumulating 240,000 miles. He holds a Class A CDL from Colorado. His driving record for the last 3 years shows no crashes and one conviction for a moving violation, speeding in a CMV. He exceeded the speed limit by 12 mph.

Armando P. D'Angeli

Mr. D'Angeli, 54, has a prosthetic left eye due to a traumatic injury that he sustained as a child. The best corrected visual acuity in his right eye is 20/15. Following an examination in 2008, his ophthalmologist noted, “I believe that Armando D'Angeli has sufficient vision to perform the driving tasks required to operate a commercial vehicle.” Mr. D'Angeli reported that he has driven straight trucks for 35 years, accumulating 350,000 miles. He holds a Class A Commercial Driver's License (CDL) from Pennsylvania. His driving record for the last 3 years shows no crashes and no convictions for moving violations in a CMV.

Stephen R. Daugherty

Mr. Daugherty, 52, has had optic nerve atrophy in his left eye since birth. The best corrected visual acuity in his right eye is 20/20 and in the left, light perception. Following an examination in 2007, his ophthalmologist noted, “I do certify in my medical opinion that he has sufficient vision to perform the driving tasks required to operate a commercial vehicle.” Mr. Daugherty reported that he has driven straight trucks for 35 years, accumulating 1.9 million miles, and tractor-trailer combinations for 30 years, accumulating 1.7 million miles. He holds a Class A CDL from Indiana. His driving record for the last 3 years shows no crashes and no convictions for moving violations in a CMV.

Donald R. Davis

Mr. Davis, 50, has complete loss of vision in his right eye due to a cataract surgery with subsequent retinal detachment that occurred when he was a child. The best corrected visual acuity in his left eye is 20/25. Following an examination in 2008, his optometrist noted, “I feel that given the long-standing history of blindness in the right eye and the extensive experience Mr. Davis has had in the commercial trucking business, he is able to perform his duties as a commercial truck driver and drive on public highways.” Mr. Davis reported that he has driven straight trucks for 10 years, accumulating 100,000 miles, tractor-trailer combinations for 5 years, accumulating 225,000 miles, and buses for 1 year, accumulating 1,000 miles. He holds a Class A CDL from Florida. His driving record for the last 3 years shows no crashes and no convictions for moving violations in a CMV.

Louis A. DiPasqua, Jr.

Mr. DiPasqua, 54, has had amblyopia in his left eye since birth. The best corrected visual acuity in his right eye is 20/20 and in the left, 20/200. Following an examination in 2008, his ophthalmologist noted, “In my medical opinion, he has sufficient vision to perform the driving tasks required to operate a commercial vehicle.” Mr. DiPasqua reported that he has driven tractor-trailer combinations for 7½ years, accumulating 600,000 miles. He holds a Class A CDL from New York. His driving record for the last 3 years shows no crashes and no convictions for moving violations in a CMV.

Henry L. Donivan

Mr. Donivan, 47, has had amblyopia in his left eye since childhood. The visual acuity in his right eye is 20/20 and in the left, 20/100. Following an examination in 2007, his ophthalmologist noted, “In my opinion, I do feel he has sufficient vision to operate a commercial vehicle safely with extra care.” Mr. Donivan reported that he has driven tractor-trailer combinations for 13 years, accumulating 1.2 million miles. He holds a Class A CDL from West Virginia. His driving record for the last 3 years shows one crash and no convictions for moving violations in a CMV.

Randy J. Doran

Mr. Doran, 53, has a prosthetic right eye due to a traumatic injury that he sustained as a child. The best corrected visual acuity in his left eye is 20/20. Following an examination in 2008, his ophthalmologist noted, “In my medical opinion, Randy Doran has sufficient vision to perform the driving tasks required to operate a commercial vehicle.” Mr. Doran reported that he has driven straight trucks for 35 years, accumulating 1.1 million miles, and tractor-trailer combinations for 29 years, accumulating 2.9 million miles. He holds a Class A CDL from Oregon. His driving record for the last 3 years shows no crashes and one conviction for a moving violation, speeding in a CMV. He exceeded the speed limit by 12 mph.

Robert E. Dukes

Mr. Dukes, 61, has an eccentric pupil and exotropia in his right eye due to a traumatic accident sustained at age 18. The best corrected visual acuity in his right eye is 20/400 and in the left, 20/20. Following an examination in 2008, his optometrist noted, “In my opinion, there have been no major changes in last forty three years that would make Mr. Dukes less able to perform vision to the driving tasks to drive commercial vehicles, present vision is stable and adequate.” Mr. Dukes reported that he has driven tractor-trailer combinations for 17 years, accumulating 1.5 million miles. He holds a Class A CDL from Mississippi. His driving record for the last 3 years shows no crashes and no convictions for moving violations in a CMV.

Roger D. Elders

Mr. Elders, 56, has had optic nerve hypoplasia in his left eye since birth. The best corrected visual acuity in his right eye is 20/20 and in the left, 20/400. Following an examination in 2007, his ophthalmologist noted, “In my opinion, Roger has sufficient vision to perform the driving tasks required to operate a commercial vehicle.” Mr. Elders reported that he has driven straight trucks for 18 years, accumulating 90,000 miles, and tractor-trailer combinations for 18 years, accumulating 900,000 miles. He holds a Class A CDL from Michigan. His driving record for the last 3 years shows one crash and no convictions for moving violations in a CMV.

Robert E. Engel

Mr. Engel, 66, has had amblyopia in his left eye since childhood. The best corrected visual acuity in his right eye is 20/20 and in the left, 20/70. Following an examination in 2008, his optometrist noted, “It is my medical opinion that Mr. Engel's vision is more than sufficient to perform the driving tasks required to operate a commercial vehicle.” Mr. Engel reported that he has driven straight trucks for 35 years, accumulating 875,000 miles, and tractor-trailer combinations for 6 years, accumulating 120,000 miles. He holds a Class A CDL from California. His driving record for the last 3 years shows two crashes, for which he was not cited, and no convictions for moving violations in a CMV.

James F. Epperson

Mr. Epperson, 52, has had amblyopia in his left eye since birth. The best corrected visual acuity in his right eye is 20/20 and in the left, 20/70. Following an examination in 2007, his optometrist noted, “In my opinion, has sufficient vision to perform the driving tasks required to operate a commercial vehicle.” Mr. Epperson reported that he has driven tractor-trailer combinations for 26 years, accumulating 2.9 million miles. He holds a Class A CDL from Indiana. His driving record for the last 3 years shows no crashes and no convictions for moving violations in a CMV.

James H. Facemyre

Mr. Facemyre, 54, has had amblyopia in his right eye since childhood. The best corrected visual acuity in his right eye is 20/200 and in the left, 20/20. Following an examination in 2007, his optometrist noted, “In my professional opinion, Mr. Facemyre has sufficient vision to perform the driving tasks required to operate a commercial vehicle.” Mr. Facemyre reported that he has driven tractor-trailer combinations for 22 years, accumulating 2.8 million miles. He holds a Class A CDL from West Virginia. His driving record for the last 3 years shows no crashes and no convictions for moving violations in a CMV.

Gregory L. Farrar

Mr. Farrar, 55, has loss of vision in his right eye due to a traumatic injury sustained in 1995. The best corrected visual acuity in his right eye is 20/400 and in the left, 20/20. Following an examination in 2008, his ophthalmologist noted, “I believe Mr. Farrar has sufficient vision to operate a commercial vehicle.” Mr. Farrar reported that he has driven straight trucks for 35 years, accumulating 7,000 miles, and tractor-trailer combinations for 34 years, accumulating 4.4 million miles. He holds a Class A CDL from Texas. His driving record for the last 3 years shows one crash, for which he was not cited, and no convictions for moving violations in a CMV.

Riche Ford

Mr. Ford, 44, has had a macular scar in his right eye since birth. The best corrected visual acuity in his right eye is count-finger vision and in the left, 20/20. Following an examination in 2007, his ophthalmologist noted, “I certify, in my medical opinion, that this patient has sufficient vision to perform the driving tasks required to operate a commercial vehicle.” Mr. Ford reported that he has driven tractor-trailer combinations for 13 years, accumulating 1.6 million miles. He holds a Class A CDL from Colorado. His driving record for the last 3 years shows no crashes and no convictions for moving violations in a CMV.

Kevin K. Friedel

Mr. Friedel, 31, has a prosthetic left eye due to a traumatic injury sustained as a child. The best corrected visual acuity in his right eye is 20/15. Following an examination in 2008, his ophthalmologist noted, “It is my opinion that Kevin Friedel has sufficient vision to perform the driving tasks required to operate a commercial vehicle.” Mr. Friedel reported that he has driven straight trucks for 13 years, accumulating 65,000 miles. He holds a Class D operator's license from New York. His driving record for the last 3 years shows no crashes and no convictions for moving violations in a CMV.

Eric M. Giddens, Sr.

Mr. Giddens, 39, has had amblyopia in his right eye since childhood. The best corrected visual acuity in his right eye is 20/100 and in the left, 20/15. Following an examination in 2008, his optometrist noted, “It is my conclusion that according to Mr. Gidden's previous driving record and his performance during all the testing he has undergone, that he has the visual ability required to operate a commercial vehicle.” Mr. Giddens reported that he has driven straight trucks for 21 years, accumulating 315,000 miles, and tractor-trailer combinations for 16 years, accumulating 1.6 million miles. He holds a Class A CDL from Delaware. His driving record for the last 3 years shows no crashes and no convictions for moving violations in a CMV.

Paul W. Goebel, Jr.

Mr. Goebel, 44, has had amblyopia in his left eye since birth. The best corrected visual acuity in his right eye is 20/20 and in the left, 20/100. Following an examination in 2007, his optometrist noted, “In my opinion, Mr. Goebel has sufficient vision required to operate a commercial vehicle.” Mr. Goebel reported that he has driven straight trucks for 7 years, accumulating 175,000 miles. He holds a Class B CDL from New York. His driving record for the last 3 years shows no crashes and no convictions for moving violations in a CMV.

Edward J. Grant

Mr. Grant, 58, has had dense leukoma of the central cornea in his left eye due to a traumatic injury sustained in 1973. The visual acuity in his right eye is 20/20 and in the left, light perception. Following an examination in 2008, his optometrist noted, “In my opinion, Mr. Grant has sufficient vision to perform the driving tasks required to operate a commercial vehicle even though his left eye does not meet the minimum visual acuity requirements.” Mr. Grant reported that he has driven straight trucks for 6 years, accumulating 12,000 miles, and tractor-trailer combinations for 25 years, accumulating 2 million miles. He holds a Class A CDL from Illinois. His driving record for the last 3 years shows one crash, for which he was cited, and no convictions for moving violations in a CMV.

Jeffery M. Hall

Mr. Hall, 45, has had amblyopia in his left eye since childhood. The best corrected visual acuity in his right eye is 20/400 and in the left, 20/20. Following an examination in 2008, his optometrist noted, “Therefore, I feel Mr. Hall has sufficient vision to perform the driving tasks required to operate a commercial vehicle.” Mr. Hall reported that he has driven straight trucks for 5 years, accumulating 200,000 miles, and tractor-trailer combinations for 18 years, accumulating 1.8 million miles. He holds a Class A CDL from Alabama. His driving record for the last 3 years shows no crashes and no convictions for moving violations in a CMV.

Ronnie L. Hanback

Mr. Hanback, 50, has had amblyopia in his left eye since childhood. The best corrected visual acuity in his right eye is 20/20 and in the left, 20/80. Following an examination in 2008, his optometrist noted, “In my opinion, he has sufficient vision to perform the driving tasks required to operate a commercial vehicle.” Mr. Hanback reported that he has driven straight trucks for 5 years, accumulating 50,000 miles, and tractor-trailer combinations for 25 years, accumulating 812,500 miles. He holds a Class A CDL from Alabama.

His driving record for the last 3 years shows no crashes and no convictions for moving violations in a CMV.

Steven G. Harter

Mr. Harter, 41, has a prosthetic left eye due to a traumatic injury sustained in 2003. The visual acuity in his right eye is 20/20. Following an examination in 2008, his optometrist noted, “In my medical opinion, Mr. Steven Harter has sufficient vision to perform the driving tasks required to operate a commercial vehicle.” Mr. Harter reported that he has driven tractor-trailer combinations for 14 years, accumulating 1.1 million miles. He holds a Class A CDL from Oregon. His driving record for the last 3 years shows no crashes and no convictions for moving violations in a CMV.

Michael C. Hensley

Mr. Hensley, 56, has loss of vision in his right eye due to a retinal detachment sustained in 1995. The best corrected visual acuity in his right eye is 20/80 and in the left, 20/20. Following an examination in 2008, his optometrist noted, “I certify that in my medical opinion, Michael Hensley has sufficient vision to perform the driving tasks required to operate a commercial vehicle.” Mr. Hensley reported that he has driven straight trucks for 22 years, accumulating 1.4 million miles. He holds a Class A CDL from Ohio. His driving record for the last 3 years shows no crashes and no convictions for moving violations in a CMV.

George F. Hernandez, Jr.

Mr. Hernandez, 48, has had complete loss of vision in his left eye due to a traumatic injury sustained as a child. The best corrected visual acuity in his right eye is 20/20. Following an examination in 2008, his ophthalmologist noted, “Mr. Hernandez has sufficient vision to perform the driving tasks necessary to operate a commercial vehicle.” Mr. Hernandez reported that he has driven straight trucks for 1 year, accumulating 50,000 miles, and tractor-trailer combinations for 15 years, accumulating 825,000 miles. He holds a Class A CDL from Arizona. His driving record for the last 3 years shows no crashes and no convictions for moving violations in a CMV.

Scott A. Hillman

Mr. Hillman, 50, has had amblyopia in his left eye since childhood. The best corrected visual acuity in his right eye is 20/20 and in the left, 20/70. Following an examination in 2008, his ophthalmologist noted, “He has sufficient vision to perform the driving tasks necessary to drive a commercial vehicle.” Mr. Hillman reported that he has driven straight trucks for 4 years, accumulating 40,000 miles, and tractor-trailer combinations for 4 years, accumulating 40,000 miles. He holds a Class A CDL from Pennsylvania.

His driving record for the last 3 years shows no crashes and no convictions for moving violations in a CMV.

Charles S. Huffman

Mr. Huffman, 50, has had amblyopia in his right eye since childhood. The best corrected visual acuity in his right eye is count-finger vision and in the left, 20/15. Following an examination in 2007, his ophthalmologist noted, “I also find that because your side vision is excellent in both eyes and that your central vision is excellent in the left eye, you will likely have no difficulty performing your job as a commercial truck driver.” Mr. Huffman reported that he has driven straight trucks for 3 years, accumulating 150,000 miles, and tractor-trailer combinations for 6 years, accumulating 360,000 miles. He holds a Class A CDL from Kansas. His driving record for the last 3 years shows no crashes and no convictions for moving violations in a CMV.

Lance G. James

Mr. James, 54, has loss of vision in his right eye due to traumatic injury sustained in 1961. The visual acuity in his right eye is light perception and in the left, 20/20. Following an examination in 2008, his ophthalmologist noted, “In my medical opinion. Mr. James has sufficient and stable vision to perform the driving tasks required to operate a commercial vehicle.” Mr. James reported that he has driven straight trucks for 35 years, accumulating 2.5 million miles, and tractor-trailer combinations for 13 years, accumulating 390,000 miles. He holds a Class A CDL from Wisconsin. His driving record for the last 3 years shows one crash, for which he was not cited, and no convictions for moving violations in a CMV.

Jesse P. Jamison

Mr. Jamison, 37, has loss of vision in his right eye due to trauma sustained as a child. The visual acuity in his right eye is 20/200 and in the left, 20/20. Following an examination in 2007, his optometrist noted, “Patient has been concluded to have sufficient vision to drive commercial vehicles.” Mr. Jamison reported that he has driven straight trucks for 10 years, accumulating 520,000 miles. He holds a Class D operator's license from Tennessee. His driving record for the last 3 years shows one crash, for which he was not cited, and no convictions for moving violations in a CMV.

James A. Jones

Mr. Jones, 52, has a macular hole in his left eye since childhood. The visual acuity in his right eye is 20/20 and in the left, 20/200. Following an examination in 2007, his optometrist noted, “In my medical opinion, Mr. Jones has sufficient vision to perform the driving tasks required to operate a commercial vehicle.” Mr. Jones reported that he has driven straight trucks for 12 years, accumulating 120,000 miles. He holds a Class C operator's license from Maryland. His driving record for the last 3 years shows no crashes and no convictions for moving violations in a CMV.

Ronnie M. Jones

Mr. Jones, 55, has had amblyopia since childhood. The best corrected visual acuity in his right eye is 20/20 and in the left, 20/200. Following an examination in 2008, his optometrist noted, “In my medical opinion, I would pass this patient to operate a commercial vehicle.” Mr. Jones reported that he has driven straight trucks for 13 years, accumulating 650,000 miles, and tractor-trailer combinations for 18 years, accumulating 1.1 million miles. He holds a Class A CDL from Idaho. His driving record for the last 3 years shows no crashes and no convictions for moving violations in a CMV.

Andrew C. Kelly

Mr. Kelly, 43, has complete loss of vision in his right eye due to a traumatic injury sustained 7 years ago. The best corrected visual acuity in his left eye is 20/20. Following an examination in 2007, his optometrist noted, “In my medical opinion, I certify that Andrew Kelly has sufficient vision to perform the driving tasks required to operate a commercial vehicle as he has done in the past.” Mr. Kelly reported that he has driven tractor-trailer combinations for 15 years, accumulating 375,000 miles. He holds a Class A CDL from Virginia. His driving record for the last 3 years shows no crashes and one conviction for a moving violation in a CMV, impeding traffic.

Jason W. King

Mr. King, 38, has complete loss of vision in his left eye due to a traumatic injury sustained as a child. The best corrected visual acuity in his right eye is 20/20. Following an examination in 2008, his optometrist noted, “Jason's vision has been stable since 1977. He has been driving for over 20 years without any problems and has sufficient vision to perform all driving tasks required to operate a commercial vehicle.” Mr. King reported that he has driven straight trucks for 10 years, accumulating 100,000 miles, and tractor-trailer combinations for 6 years, accumulating 30,000 miles. He holds a Class A CDL from Montana. His driving record for the last 3 years shows no crashes and no convictions for moving violations in a CMV.

Leslie A. Landschoot

Mr. Landschoot, 46, has had amblyopia in his left eye since birth. The best corrected visual acuity in his right eye is 20/20 and in the left, 20/400. Following an examination in 2007, his optometrist noted, “In my opinion, Leslie has more than adequate visual acuity and peripheral vision to perform the driving tasks required to operate a commercial vehicle.” Mr. Landschoot reported that he has driven straight trucks for 29 years, accumulating 870,000 miles, and tractor-trailer combinations for 15 years, accumulating 300,000 miles. He holds a Class A CDL from New York. His driving record for the last 3 years shows no crashes and no convictions for moving violations in a CMV.

James W. Lappan

Mr. Lappan, 28, has had amblyopia in his left eye since childhood. The best corrected visual acuity in his right eye is 20/15 and in the left, 20/400. Following an examination in 2007, his optometrist noted, “James has stable vision, in my opinion, has sufficient vision to drive a commercial vehicle.” Mr. Lappan reported that he has driven straight trucks for 10 years, accumulating 30,000 miles, and tractor-trailer combinations for 6 years, accumulating 180,000 miles. He holds a Class A CDL from Kansas. His driving record for the last 3 years shows no crashes and one conviction for a moving violation, speeding in a CMV. He exceeded the speed limit by 12 mph.

Billy J. Lewis

Mr. Lewis, 40, has had amblyopia in his left eye since birth. The best corrected visual acuity in his right eye is 20/20 and in the left, 20/70. Following an examination in 2008, his optometrist noted, “In my opinion, he has sufficient vision to perform the driving tasks required to operate a commercial vehicle.” Mr. Lewis reported that he has driven straight trucks for 21 years, accumulating 945,000 miles, and tractor-trailer combinations for 9 months, accumulating 30,000 miles. He holds a Class B CDL from Louisiana. His driving record for the last 3 years shows no crashes and no convictions for moving violations in a CMV.

Larry McCoy, Sr.

Mr. McCoy, 56, has had central serous retinopathy in his right eye since 2003. The best corrected visual acuity in his right eye is 20/125 and in the left, 20/20. Following an examination in 2007, his optometrist noted, “In my medical opinion, Larry McCoy has sufficient vision to perform the driving tasks required to operate a commercial vehicle.” Mr. McCoy reported that he has driven straight trucks for 9 years, accumulating 540,000 miles, and tractor-trailer combinations for 16 years, accumulating 1.6 million miles. He holds a Class A CDL from Ohio. His driving record for the last 3 years shows no crashes and no convictions for moving violations in a CMV.

Tommy L. McKnight

Mr. McKnight, 52, has had amblyopia in his right since childhood. The visual acuity in his right eye is 20/200 and in the left, 20/20. Following an examination in 2007, his optometrist noted, “His vision is adequate for all driving tasks, with no restrictions, for all types of vehicles.” Mr. McKnight reported that he has driven straight trucks for 1½ years, accumulating 81,864 miles, and tractor-trailer combinations for 3½ years, accumulating 232,078 miles. He holds a Class A CDL from Ohio. His driving record for the last 3 years shows one crash and one conviction for a moving violation, speeding in a CMV. He exceeded the speed limit by 11 mph.

Robert W. McMillan

Mr. McMillan, 44, has a prosthetic left eye due to a traumatic injury sustained six years ago. The visual acuity in his right eye is 20/20. Following an examination in 2008, his ophthalmologist noted, “I have no doubt he has sufficient vision to perform the driving tasks required to operate a commercial vehicle.” Mr. McMillan reported that he has driven straight trucks for 3 years, accumulating 14,799 miles, and tractor-trailer combinations for 10 years, accumulating 723,900 miles. He holds a Class A CDL from Massachusetts. His driving record for the last 3 years shows no crashes and no convictions for moving violations in a CMV.

Danny W. Nuckles

Mr. Nuckles, 66, has complete loss of vision in the left eye due to corneal opacity which was result of a traumatic injury sustained in 1965. The best corrected visual acuity in his right eye is 20/25. Following an examination in 2007, his optometrist noted, “I certify that in my medical opinion, that Mr. Nuckles has significant vision to perform the driving tasks required to operate a commercial vehicle.” Mr. Nuckles reported that he has driven straight trucks for 20 years, accumulating 273,100 miles, and tractor-trailer combinations for 12 years, accumulating 179,460 miles. He holds a Class A CDL from Virginia. His driving record for the last 3 years shows no crashes and no convictions for moving violations in a CMV.

David G. Olsen

Mr. Olsen, 46, has a prosthetic right eye due to a traumatic injury sustained at the age of 24. The visual acuity in his left eye is 20/20. Following an examination in 2008, his optometrist noted, “I feel in my medical opinion that he is able and has sufficient vision to perform the driving tasks required to operate a commercial vehicle.” Mr. Olsen reported that he has driven straight trucks for 20 years, accumulating 624,000 miles, and tractor-trailer combinations for 2 years, accumulating 59,520 miles. He holds a Class A CDL from Idaho. His driving record for the last 3 years shows no crashes and no convictions for moving violations in a CMV.

Robert L. Person

Mr. Person, 47, has a prosthetic left eye due to a traumatic injury sustained at the age of 37. The visual acuity in his right eye is 20/20. Following an examination in 2008, his ophthalmologist noted, “I do feel that he has sufficient vision to perform the driving tasks required to operate a commercial vehicle.” Mr. Person reported that he has driven straight trucks for 4 years, accumulating 28,000 miles, and tractor-trailer combinations for 8 years, accumulating 800,000 miles. He holds a Class A CDL from New York. His driving record for the last 3 years shows no crashes and no convictions for moving violations in a CMV.

Carroll G. Quisenberry

Mr. Quisenberry, 58, has had amblyopia in his right eye since childhood. The visual acuity in his right eye is light perception and in the left, 20/20. Following an examination in 2008, his ophthalmologist noted, “It is my professional opinion that Mr. Quisenberry has sufficient vision to perform driving tasks required to operate a commercial vehicle.” Mr. Quisenberry reported that he has driven straight trucks for 10 years, accumulating 10,000 miles, tractor-trailer combinations for 3½ years, accumulating 28,700 miles, and buses for 3 years, accumulating 135,000 miles. He holds a Class A CDL from Kentucky. His driving record for the last 3 years shows no crashes and no convictions for moving violations in a CMV.

Ryan J. Reimann

Mr. Reimann, 51, has had amblyopia in his right eye since childhood. The best corrected visual acuity in his right eye is 20/80 and in the left, 20/20. Following an examination in 2008, his optometrist noted, “It is my professional opinion that Mr. Reimann is safe to drive commercial motor vehicles under both intrastate/interstate with his current corrected visual acuity.” Mr. Reimann reported that he has driven straight trucks for 7 years, accumulating 350,000 miles, and tractor-trailer combinations for 26 years, accumulating 2 million miles. He holds a Class A CDL from Wisconsin. His driving record for the last 3 years shows no crashes and no convictions for moving violations in a CMV.

Ronny L. Rogers

Mr. Rogers, 60, has macular scarring in his right eye due to trauma sustained in 1975. The visual acuity in his right eye is 20/400 and in the left, 20/20. Following an examination in 2008, his optometrist noted, “I have no hesitations for Ronny to operate a commercial vehicle.” Mr. Rogers reported that he has driven straight trucks for 40 years, accumulating 40,000 miles, and tractor-trailer combinations for 20 years, accumulating 2.8 million miles. He holds a Class A CDL from Washington. His driving record for the last 3 years shows no crashes and one conviction for a moving violation, speeding in a CMV. He exceeded the speed limit by 20 mph.

Paul L. Savage

Mr. Savage, 65, has a prosthetic left eye due to a traumatic injury sustained in 1950. The best corrected visual acuity in his right eye is 20/20. Following an examination in 2008, his optometrist noted, “I do believe he has the vision capability to perform his duties. He has had no change in his eyes or vision and has been successful as a commercial driver for quite some time.” Mr. Savage reported that he has driven straight trucks for 27 years, accumulating 324,000 miles, and tractor-trailer combinations for 5 years, accumulating 40,000 miles. He holds a Class A CDL from Indiana. His driving record for the last 3 years shows no crashes and no convictions for moving violations in a CMV.

Manuel C. Savin

Mr. Savin, 60, has had amblyopia in his right eye since childhood. The best corrected visual acuity in his right eye is 20/200 and in the left, 20/20. Following an examination in 2007, his optometrist noted, “Manuel Savin has sufficient vision to drive commercial vehicles.” Mr. Savin reported that he has driven straight trucks for 20 years, accumulating 600,000 miles. He holds a Class Chauffeur's license from Louisiana. His driving record for the last 3 years shows no crashes and one conviction for a moving violation, speeding in a CMV. He exceeded the speed limit by 15 mph.

Brandon J. See

Mr. See, 47, has corneal scarring in his left eye due to a traumatic injury sustained at age 39. The best corrected visual acuity in his right eye is 20/20 and in the left, 20/100. Following an examination in 2008, his optometrist noted, “It is my medical opinion that Brandon has sufficient vision to perform the driving tasks required to operate a commercial vehicle.” Mr. See reported that he has driven straight trucks for 4 years, accumulating 164,000 miles, and tractor-trailer combinations for 3 months, accumulating 1,500 miles. He holds a Class A CDL from Iowa. His driving record for the last 3 years shows no crashes and no convictions for moving violations in a CMV.

Douglas A. Sharp

Mr. Sharp, 48, has a prosthetic right eye due to a traumatic injury sustained as a child. The best corrected visual acuity in his left eye is 20/20. Following an examination in 2008, his optometrist noted, “In my medical, with corrective lenses, Mr. Sharp has sufficient vision to perform the driving tasks required to operate a commercial vehicle.” Mr. Sharp reported that he has driven tractor-trailer combinations for 16 years, accumulating 2.2 million miles. He holds a Class A CDL from Virginia. His driving record for the last 3 years shows no crashes and no convictions for moving violations in a CMV.

LeTroy D. Sims

Mr. Sims, 30, has a prosthetic left eye due to a traumatic injury that he sustained at the age of 15. The best corrected visual acuity in his right eye is 20/20. Following an examination in 2008, his ophthalmologist noted, “I do feel he has sufficient vision to perform the driving tasks required to operate a commercial vehicle.” Mr. Sims reported that he has driven straight trucks for 6 years, accumulating 600,000 miles. He holds a Class D operator's license from South Carolina. His driving record for the last 3 years shows one crash and no conviction for moving violations in a CMV.

Robert M. Stewart

Mr. Stewart, 39, has a macular hole and scar in his left eye due to a traumatic injury sustained as a child. The best corrected visual acuity in his right eye is 20/20 and in the left, count-finger vision. Following an examination in 2008, his optometrist noted, “I certify in my medical opinion Robert Stewart has sufficient vision to perform the driving tasks required to operate a commercial vehicle.” Mr. Stewart reported that he has driven tractor-trailer combinations 5 years, accumulating 750,000 miles. He holds a Class A CDL from Arkansas. His driving record for the last 3 years shows no crashes and one conviction for a moving violation, speeding in a CMV. He exceeded the speed limit by 14 mph.

John L. Stone

Mr. Stone, 57, has complete loss of vision in his right eye due to a traumatic injury sustained as a child. The visual acuity in his right eye is 20/20. Following an examination in 2008, his optometrist noted, “I certify that in my medical opinion as a licensed optometrist, John Stone has sufficient vision to perform the driving tasks required to operate a commercial vehicle.” Mr. Stone reported that he has driven straight trucks for 12 years, accumulating 450,000 miles. He holds a Class C operator's license from Pennsylvania.

His driving record for the last 3 years shows no crashes and no convictions for moving violations in a CMV.

Robert J. Szeman

Mr. Szeman, 52, has loss of vision in his left eye due to a branch retinal vein occlusion since 2004. The best corrected visual acuity in his right eye is 20/20 and in the left, 20/50. Following an examination in 2008, his optometrist noted, “In summary, I feel that Robert's overall vision is sufficient to perform the tasks of driving a commercial vehicle.” Mr. Szeman reported that he has driven straight trucks for 30 years, accumulating 858,000 miles. He holds a Class B CDL from Pennsylvania. His driving record for the last 3 years shows one crash and no convictions for moving violations in a CMV.

Donald J. Thompson

Mr. Thompson, 61, has had amblyopia in his left eye since childhood. The best corrected visual acuity in his right eye is 20/20 and in the left, 20/400. Following an examination in 2008, his ophthalmologist noted, “In my medical opinion, he has sufficient vision to perform the driving tests required to operate a commercial vehicle.” Mr. Thompson reported that he has driven straight trucks for 25 years, accumulating 500,000 miles, and tractor-trailer combinations for 30 years, accumulating 750,000 miles. He holds a Class A CDL from Minnesota. His driving record for the last 3 years shows no crashes and no convictions for moving violations in a CMV.

Nils S. Thornberg

Mr. Thornberg, 53, has a prosthetic left eye due to trauma sustained as a child. The visual acuity in his right eye is 20/15. Following an examination in 2008, his ophthalmologist noted, “In my opinion, Nils Thornberg has sufficient vision to perform the driving tasks required to operate a commercial vehicle.” Mr. Thornberg reported that he has driven tractor-trailer combinations for 35 years, accumulating 357,000 miles. He holds a Class A CDL from Oregon. His driving record for the last 3 years shows no crashes and one conviction for a moving violation in a CMV, failure to obey a traffic control device.

Daniel W. Toppings

Mr. Toppings, 45, has had amblyopia in his right eye since birth. The best corrected visual acuity in his right eye is 20/200 and in the left, 20/20. Following an examination in 2008, his optometrist noted, “I have personally examined the vision of Mr. Toppings and believe he has sufficient vision to perform the driving tasks required to operate a commercial vehicle.” Mr. Toppings reported that he has driven tractor-trailer combinations for 17 years, accumulating 2.4 million miles. He holds a Class A CDL from West Virginia. His driving record for the last 3 years shows no crashes and no convictions for moving violations in a CMV.

Kenneth E. Valentine

Mr. Valentine, 41, has loss of vision in his right eye due to a traumatic injury sustained at age 21. The visual acuity in his right eye is light perception and in the left, 20/20. Following an examination in 2008, his optometrist noted, “In my professional opinion, Kenneth Valentine has sufficient vision to perform driving tasks required to operate a commercial vehicle.” Mr. Valentine reported that he has driven straight trucks for 19 years, accumulating 950,000 miles, and tractor-trailer combinations for 19 years, accumulating 2.4 million miles. He holds a Class A CDL from Mississippi. His driving record for the last 3 years shows no crashes and no convictions for moving violations in a CMV.

Lewis H. West, Jr.

Mr. West, 39, has had amblyopia in his left eye since childhood. The visual acuity in his right eye is 20/20 and in the left, 20/50. Following an examination in 2008, his optometrist noted, “In my medical opinion, this patient has sufficient vision to perform the tasks to operate a commercial vehicle.” Mr. West reported that he has driven tractor-trailer combinations for 9 ¾ years, accumulating 126,750 miles. He holds a Class A CDL from Florida. His driving record for the last 3 years shows no crashes and no convictions for moving violations in a CMV.

Christopher R. Whitson

Mr. Whitson, 33, has an enucleation of the left eye due to a traumatic injury sustained as a child. The visual acuity in his right eye is 20/15. Following an examination in 2008, his ophthalmologist noted, “In my opinion, he has sufficient vision to perform the driving tasks required to operate a commercial vehicle.” Mr. Whitson reported that he has driven straight trucks for 5 years, accumulating 37,500 miles. He holds a Class A CDL from North Carolina. His driving record for the last 3 years shows no crashes and no convictions for moving violations in a CMV.

Leon S. Willis

Mr. Willis, 63, has retinal damage in his left eye due to a traumatic injury sustained as a child. The best corrected visual acuity in his right eye is 20/15 and in the left, light perception. Following an examination in 2008, his optometrist noted, “In my medical opinion. Mr. Willis has sufficient vision to perform tasks required to safely operate a commercial vehicle.” Mr. Willis reported that he has driven tractor-trailer combinations for 35 years, accumulating 3.2 million miles. He holds a Class A CDL from Florida. His driving record for the last 3 years shows no crashes and one conviction for a moving violation in a CMV. He was following another vehicle too closely.

George L. Young

Mr. Young, 68, has complete loss of vision in his left eye due to optic nerve atrophy. The best corrected visual acuity in his right eye is 20/20. Following an examination in 2008, his ophthalmologist noted, “In my medical opinion, Mr. Young has sufficient vision to operate a commercial vehicle.” Mr. Young reported that he has driven straight trucks for 1½ years, accumulating 54,000 miles, and tractor-trailer combinations for 35 years, accumulating 3.3 million miles. He holds a Class A CDL from North Carolina. His driving record for the last 3 years shows no crashes and no convictions for moving violations in a CMV.

Request for Comments

In accordance with 49 U.S.C. 31136(e) and 31315, FMCSA requests public comment from all interested persons on the exemption petitions described in this notice. The Agency will consider all comments received before the close of business July 21, 2008. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: June 13, 2008.
Larry W. Minor,
Associate Administrator for Policy and Program Development.

[FR Doc. E8-14003 Filed 6-19-08; 8:45 am]

BILLING CODE 4910-EX-P